Proclamation 10412 of May 31, 2022

National Immigrant Heritage Month, 2022

By the President of the United States of America

A Proclamation

The United States is a Nation of immigrants—shaped by the courageous people from around the world who leave their homes, lives, and loved ones to seek refuge and opportunity on our shores. Their sacrifices and entrepreneurial spirit have contributed to the rich tapestry that has defined the character of our country for generations. Since our founding, the very idea of America as a Nation of limitless possibilities has been nurtured and advanced by immigrants. During National Immigrant Heritage Month, we honor the contributions of immigrants to our great Nation and celebrate their profound impact.

Immigrants fuel our economy and work in every profession, including health care, public service, law, education, engineering, construction, caregiving, manufacturing, service, agriculture, and countless other industries. They create new businesses, small and large, and generate millions of jobs in America. They are essential workers, providing critical services during COVID-19 and serving on the frontlines of research for vaccines and treatments. Immigrants have also helped the United States lead the world in science, technology, and innovation while contributing to the arts, culture, and government. They bring new traditions, customs, and perspectives that keep American innovation dynamic.

My Administration is committed to ensuring that our immigration system is accessible and humane. I have called on the Congress to pass long-overdue legislation to comprehensively reform our immigration system. Through multiple Executive Orders, I have also directed agencies across the Federal Government to remove barriers that improperly impede access to immigration benefits and to assure fair and timely adjudication of those benefits.

An important part of our commitment is recognizing that, too often, immigrants face discrimination, xenophobia, and violence. Hate and fear are being given too much oxygen by those who pretend to love America but do not understand America. To confront the dangerous ideology of hate requires caring about all people—including our Nation's immigrants. After all, the fundamental promise of America is that all of us are created equal and deserve to be treated equally throughout our lives. As a Nation, we have never fully lived up to that promise, but we have never walked away from it either. That is why my Administration will continue to use every tool at our disposal to ensure that all immigrants feel safe, valued, and respected.

The United States has long been a refuge for those seeking safe haven. In the wake of World War II, we opened our doors to hundreds of thousands fleeing the devastation in Europe and the horrors of the Holocaust. After the Vietnam War and other conflicts in Southeast Asia, we formed the United States Refugee Admissions Program, which has welcomed more than 3 million people fleeing persecution and war since 1980. More recently, we welcomed tens of thousands of Afghans and their families who served honorably alongside American forces, and we are now welcoming thousands of Ukrainians fleeing Russia's invasion. My Administration continues to extend Temporary Protected Status for vulnerable migrant populations throughout the world who cannot safely return to their countries of origin. Furthermore, my Administration is committed to promoting naturalization and breaking down barriers to United States citizenship for all eligible candidates—a promise that honors our Nation's values and makes us more secure and prosperous.

When someone becomes a United States citizen, it gives them the opportunity to fully participate in and contribute their unique talents to our American story. Each generation of immigrants has made our Nation stronger and reaffirmed that diversity is—and always has been—our greatest strength. This National Immigrant Heritage Month, we honor our immigrants and recommit to remaining a country worthy of their dreams and aspirations, a Nation true to our enduring values, and a democracy that forever stands as a beacon of hope to the world.

NOW, THEREFORE, I, JOSEPH R. BIDEN JR., President of the United States of America, by virtue of the authority vested in me by the Constitution and the laws of the United States, do hereby proclaim June 2022 as National Immigrant Heritage Month. I call upon the people of the United States to learn more about the history of our Nation's diverse and varied immigrant communities and to observe this month with appropriate programming and activities that remind us of the values of diversity, equity, and inclusion.

IN WITNESS WHEREOF, I have hereunto set my hand this thirty-first day of May, in the year of our Lord two thousand twenty-two, and of the Independence of the United States of America the two hundred and forty-sixth.

[FR Doc. 2022-12128

Filed 6-2-22; 8:45 am]

Billing code 3395-F2-P